DEPARTMENT OF COMMERCE

National Oceanic and Atmospheric Administration

RIN 0648-XD048

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (SAFMC) will hold a meeting of its Scientific and Statistical Committee (SSC) to discuss peer review of a wreckfish stock assessment. See SUPPLEMENTARY INFORMATION.

DATES: The SSC meeting will be held via webinar on Monday, January 27, 2014, from 1 p.m. to 3 p.m.

ADDRESSES: The meetings will be held via webinar. The webinar is open to members of the public. Those interested in participating should contact John Carmichael at the SAFMC (see FOR FURTHER INFORMATION CONTACT) to request an invitation providing webinar access information. Please request webinar invitations at least 24 hours in advance of the webinar.

Council Address: South Atlantic Fishery Management Council, 4055 Faber Place Drive, Suite 201, N. Charleston, SC 29405.

FOR FURTHER INFORMATION CONTACT: John Carmichael; 4055 Faber Place Drive, Suite 201, North Charleston, SC 29405; phone: (843) 571-4366 or toll free: (866) SAFMC-10; fax: (843) 769-4520; email: john.carmichael@safmc.net.

SUPPLEMENTARY INFORMATION: This meeting is held to discuss the peer review of a stock assessment of wreckfish in the South Atlantic. In accordance with the peer review policy approved by the Council, the SSC previously reviewed a proposal to assess the wreckfish resource, and will now consider the process for peer review of that assessment. The assessment is currently underway by Dr. Douglas Butterworth and colleagues, and is expected to be complete in mid-February, 2014. At this meeting, the SSC will recommend Terms of Reference, timing and reviewers for the peer review.

Items To Be Addressed During This Meeting

1. Wreckfish assessment Peer Review Terms of Reference.

2. Wreckfish assessment Reviewers.

3. Timing and Approach of Peer Review.

Special Accommodations

The meeting is physically accessible to people with disabilities. Requests for sign language interpretation or other auxiliary aids should be directed to the Council office (see ADDRESSES) at least 10 business days prior to the meeting.

Note: The times and sequence specified in this agenda are subject to change.

Authority: 16 U.S.C. 1801 et seq.

Dated: January 2, 2014.
Sean F. Corson,
Acting Deputy Director, Office of Sustainable Fisheries, National Marine Fisheries Service.

[FR Doc. 2014-00035 Filed 1-6-14; 8:45 am]

BILLING CODE 3510-22-P